DEPARTMENT OF COMMERCE

National Oceanic and Atmospheric Administration

[RTID 0648-XD907]

North Pacific Fishery Management Council; Public Meeting

AGENCY: National Marine Fisheries Service (NMFS), National Oceanic and Atmospheric Administration (NOAA), Commerce.

ACTION: Notice of hybrid meeting.

SUMMARY: The North Pacific Fishery Management Council (Council) Bering Sea Aleutian Islands Crab Plan Team (BSAI CPT) will meet May 14, 2024 to May 16, 2024.

DATES: The meeting will be held on Tuesday, May 14, 2024 through Thursday, May 16, 2024, from 9 a.m. to 5 p.m., AK time.

ADDRESSES: The meeting will be a hybrid meeting. Attend in-person at the North Pacific Fishery Management Council office, 1007 West Third Ave, Suite 400 Anchorage, AK 99501, or join the meeting online through the link at https://meetings.npfmc.org/Meeting/Details/3043.

Council address: North Pacific Fishery Management Council, 1007 W Third Ave, Suite 400, Anchorage, AK 99501-2252; telephone: (907) 271-2809. Instructions for attending the meeting via video conference are given under SUPPLEMENTARY INFORMATION, below.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Tuesday, May 14, 2024 Through Thursday, May 16, 2024

The agenda will include: (a) Aleutian Island Golden King Crab 2024 SAFE; (b) Council updates; (c) proposed model runs for Bristol Bay red king crab, Eastern Bering Sea snow crab, Tanner crab, and Saint Matthew blue king crab; (d) ecosystem and socioeconomic profile updates; (e) Bering Sea Fisheries Research Foundation (BSFRF); (f) economic impacts of the snow crab closure; (g) research updates; and (h) other business. The agenda is subject to change, and the latest version will be posted at https://meetings.npfmc.org/Meeting/Details/3043 prior to the meeting, along with meeting materials.

Connection Information

You can attend the meeting online using a computer, tablet, or smart phone, or by phone only. Connection information will be posted online at: https://meetings.npfmc.org/Meeting/Details/3043.

Public Comment

Public comment letters will be accepted and should be submitted electronically to https://meetings.npfmc.org/Meeting/Details/3043.

Authority: 16 U.S.C. 1801 et seq.

Dated: April 22, 2024.
Rey Israel Marquez,
Acting Deputy Director, Office of Sustainable Fisheries, National Marine Fisheries Service.

[FR Doc. 2024-08962 Filed 4-25-24; 8:45 am]

BILLING CODE 3510-22-P